ENVIRONMENTAL PROTECTION AGENCY

40 CFR Part 271

[FRL-7173-8]

Hazardous Waste Management Program: Final Authorization of State Hazardous Waste Management Program Revisions for State of Arkansas

AGENCY: Environmental Protection Agency (EPA).

ACTION: Proposed rule and request for comment.

SUMMARY: The EPA (also, “the Agency” in this preamble) is proposing to grant final authorization to the hazardous waste program revisions submitted by the State of Arkansas Department of Environmental Quality for its hazardous waste program revisions, specifically, revisions needed to meet the Resource Conservation and Recovery Act Clusters III through IX, which contain Federal rules promulgated between July 1, 1992 to June 30, 1999 and a portion of RCRA Cluster X promulgated July 6, 1999.

The State of Arkansas is using Arkansas Code Annotated 8-7-508(a)(1) of the Remedial Action Trust Fund Act of 1985 (RATFA) to establish equivalent authorities to RCRA sections 3004(v) and (u). EPA would like to receive specific comments from the public on this approach. This approach is discussed further in the Federal Register notice, “Immediate Final Rule” that EPA has determined to be Broader in Scope. Also see Arkansas' Independent Counsel Statement on pages 12 through 13 of the State of Arkansas Consolidated Attorney General Statement for RCRA Clusters III through IX and portion of RCRA Cluster X.

In the “Rules and Regulations” section of this Federal Register (FR), EPA is authorizing the State's program revisions as an immediate final rule without prior proposal because the EPA views this action as noncontroversial and anticipates no adverse comments. The Agency has explained the reasons for this authorization in the preamble to the immediate final rule. If EPA does not receive adverse written comments, the immediate final rule will become effective and the Agency will not take further action on this proposal. If EPA receives adverse written comments, a second Federal Register document will be published before the time the immediate final rule takes effect. The second document may withdraw the immediate final rule or identify the issues raised, respond to the comments and affirm that the immediate final rule will take effect as scheduled. Any parties interested in commenting on this action should do so at this time.

DATES: Written comments must be received on or before May 24, 2002.

ADDRESSES: Mail written comments to Alima Patterson, Region 6, Regional Authorization Coordinator, Grants and Authorization Section (6PD-G), Multimedia Planning and Permitting Division, at the address shown below. You can examine copies of the materials submitted by the State of Arkansas during normal business hours at the following locations: EPA Region 6, 1445 Ross Avenue, Dallas, Texas 75202-2733, (214) 665-6444; or Arkansas Department of Environmental Quality, 8101 Interstate 30, Little Rock, Arkansas 72219, (501) 682-0876.

FOR FURTHER INFORMATION CONTACT: Alima Patterson (214) 665-8533.

SUPPLEMENTARY INFORMATION: For additional information, please see the immediate final rule published in the “Rules and Regulations” section of this Federal Register.

Dated: April 4, 2002.
Gregg A. Cooke,
Regional Administrator, Region 6.

[FR Doc. 02-10039 Filed 4-23-02; 8:45 am]

BILLING CODE 6560-50-P